DEPARTMENT OF HOMELAND SECURITY

Federal Emergency Management Agency

44 CFR Part 67

[Docket ID FEMA-2008-0020; Internal Agency Docket Nos. FEMA-B-1060 and FEMA-B-1062]

Proposed Flood Elevation Determinations

AGENCY: Federal Emergency Management Agency, DHS.

ACTION: Proposed rule; correction.

SUMMARY: FEMA is correcting a table for Black Hawk County, Iowa, and Incorporated Areas. Further, on July 8, 2009, FEMA published a proposed rule that properly addressed St. Charles County, Missouri, and Incorporated Areas, but incorrectly indicated that St. Charles County had not been included in any previously published proposed rule. FEMA seeks to correct and clarify that statement.

FOR FURTHER INFORMATION CONTACT: Kevin C. Long, Acting Chief, Engineering Management Branch, Mitigation Directorate, Federal Emergency Management Agency, 500 C Street, SW., Washington, DC 20472, (202) 646-2820 or (e-mail) kevin.long@dhs.gov.

SUPPLEMENTARY INFORMATION: The Federal Emergency Management Agency (FEMA) proposes determinations of Base (1% annual-chance) Flood Elevations (BFEs) and modified BFEs for communities participating in the National Flood Insurance Program (NFIP), in accordance with section 110 of the Flood Disaster Protection Act of 1973, 42 U.S.C. 4104, and 44 CFR 67.4(a). These proposed BFEs and modified BFEs, together with the floodplain management criteria required by 44 CFR 60.3, are minimum requirements. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Need for Corrections

FEMA is correcting a table in a proposed rule which published on July 2, 2009, at 74 FR 31656, and correcting an incorrect statement made in the preamble to a proposed rule that published on July 8, 2009, at 74 FR 32480. On July 2, 2009, FEMA published a proposed rule that contained two errors: first, a table for Black Hawk County, Iowa, and Incorporated Areas contained incorrect information; and second, a table for St. Charles County, Missouri, and Incorporated Areas should not have been included in the rule and published in error. On July 8, 2009, at 74 FR 32480, FEMA published a separate proposed rule which properly addressed St. Charles County, Missouri, and Incorporated Areas. However, the July 8 rule incorrectly indicated that St. Charles County had not been included in any previous proposed rule. FEMA seeks to correct and clarify that statement.

The July 2, 2009, proposed rule contained a table entitled “Black Hawk County, Iowa, and Incorporated Areas,” which contained errors. For flooding source “Dry Run Creek Diversion,” the table contained inaccurate information as to the location of referenced elevation, effective and modified elevation in feet, or communities affected. Also, for flooding source “Ponded Area No. 2, from Elk Run Creek, landside of levee,” the table contained a misspelling for Lafayette Road. FEMA is now publishing a revised table for Black Hawk County, Iowa, and Incorporated Areas, containing the accurate information, to address these prior errors. The information provided in the table below should be used in lieu of the table published on July 2, 2009.

In addition, the July 2, 2009 proposed rule also contained a table entitled, “St. Charles County, Missouri, and Incorporated Areas.” The table was erroneously included in the July 2 rule, and should not have published at that time. Base flood elevations for St. Charles County properly published in a subsequent proposed rule on July 8, 2009, at 74 FR 32480; the proposed table in the July 8 rule effectively replaced the July 2 proposed table.

The July 8 proposed rule addressed communities in the greater St. Louis, Missouri, area, that are the subject of an act of Congress that required FEMA to delay the statutory appeals process, required under Section 1363 of the National Flood Insurance Act of 1968, until certain publication requirements were met for each of these communities. (Consolidated Security, Disaster Assistance, and Continuing Appropriations Act 2009, Public Law 110-329, Div. B, Sec. 10503, 122 Stat. 3574, 3593 (2008)). The preamble of the July 8 proposed rule contained an incorrect statement which FEMA seeks to clarify here. The proposed rule stated that it was the first publication of proposed BFEs for the affected Missouri counties. This statement was inaccurate; as explained above, St. Charles County, Missouri, and Incorporated Areas had been inadvertently included in the July 2 rule. However, the inadvertent publication of the July 2 table for St. Charles County will not affect FEMA's determination to run concurrent comment and appeal periods for all of the communities affected by the July 8 proposed rule. Therefore, counties should consider the July 2 tables for St. Charles County, Missouri, and Incorporated Areas withdrawn and replaced by the July 8 proposed tables. All comment periods and associated time deadlines shall be calculated using the dates and information published in the July 8 proposed rule.

Correction

In the proposed rule published July 2, 2009 (74 FR 31656), on page 31658, revise the table for Black Hawk County, Iowa, and Incorporated Areas to read as follows:

Flooding source(s) | Location of referenced elevation** | * Elevation in feet (NGVD) + Elevation in feet (NAVD) # Depth in feet above ground ‸Elevation in meters (MSL): Effective | * Elevation in feet (NGVD) + Elevation in feet (NAVD) # Depth in feet above ground ‸Elevation in meters (MSL): Modified | Communities affected
Black Hawk County, Iowa, and Incorporated Areas
Big Woods Creek | Approximately 88 feet upstream of Lone Tree Road | None | +864 | City of Cedar Falls, Unincorporated Areas of Black Hawk County.
| Just downstream of Cedar-Wapsi Road | None | +920
Big Woods Creek Upper Diversion | Approximately 0.5 mile upstream of Mount Vernon Road | None | +870 | Unincorporated Areas of Black Hawk County.
| Approximately 0.6 mile upstream of Cedar-Wapsi Road | None | +875
Black Hawk Creek | Just upstream of West Shaulis Road | +872 | +870 | Unincorporated Areas of Black Hawk County, City of Hudson, City of Waterloo.
| Approximately 975 feet downstream of Zaneta Road | +890 | +891
Cedar River | Just upstream of Lone Tree Road and Interstate 218 | None | +864 | City of Cedar Falls.
| East of Big Woods Road and approximately 0.3 mile south of Dunkerton Road along Illinois Central Gulf Railroad | None | +864
Cedar River | Approximately 0.6 mile downstream of Interstate 218 | +858 | +859 | City of Cedar Falls, City of Waterloo, Unincorporated Areas of Black Hawk County.
| Approximately 2.1 miles upstream of Center Street | +868 | +869
Cedar River Diversion Channel | Approximately 440 feet downstream of State Highway 57 | +859 | +860 | City of Cedar Falls.
| Approximately 1.3 miles upstream of Illinois Central Railroad | +864 | +865
City View Branch | Approximately 0.3 mile downstream of Independence Avenue | +853 | +847 | City of Waterloo.
| Just downstream of Chicago and North Western Railroad | +857 | +859
Crane Creek | Approximately 117 feet downstream of Wheeler Road | None | +936 | Unincorporated Areas of Black Hawk County, City of Dunkerton.
| Just downstream of East Cedar-Wapsi Road | None | +967
Crossroads Creek | Approximately 91 feet downstream of Hess Road | None | +845 | City of Waterloo.
| Approximately 514 feet upstream of Alexander Drive | None | +871
Crossroads Creek Diversion | Approximately 91 feet downstream of Hess Road | +846 | +849 | City of Waterloo.
| Approximately 0.3 mile upstream of Sarah Drive | +866 | +867
Dry Run Creek Diversion | Approximately 25 feet upstream of 20th Street | +867 | +864 | City of Cedar Falls.
| Approximately 225 feet downstream of Seerley Boulevard | +868 | +866
Dry Run Creek at Cedar Falls | Approximately 293 feet downstream of Illinois Central Gulf Railroad | +860 | +852 | City of Cedar Falls.
| Approximately 540 feet downstream of U.S. Route 20 | +927 | +928
Dry Run Creek at Waterloo | Approximately 664 feet downstream of Commercial Street | #1 | #2 | City of Waterloo.
| Approximately 106 feet upstream of Byron Avenue | +868 | +861
| Approximately 0.5 mile upstream of Kimball Avenue | None | +942
Maywood Branch | Approximately 0.4 mile downstream of Bishop Avenue | +856 | +855 | City of Waterloo.
| Just upstream of Bishop Avenue | +858 | +857
Myers Lake | West end of lake | +826 | +838 | City of Evansdale.
| East end of lake | +826 | +838
Ponded Area No. 2, from Elk Run Creek, landside of levee | North end of ponding area, approximately 0.3 mile downstream of Lafayette Road | +833 | +836 | City of Evansdale.
| South end of ponding area, approximately 0.4 mile upstream of Gilbert Road | +833 | +836
Ponded Area No.1 from Elk Run Creek, landside of levee | North end of ponding area, approximately 150 feet downstream of Gilbert Drive | +831 | +836 | City of Evansdale.
| South end of ponding area, approximately 350 feet upstream of State Route 380 | +831 | +836
South West Branch of Dry Run Creek | Approximately 279 feet downstream of Main Street | +870 | +865 | City of Cedar Falls.
| Approximately 1.8 miles upstream of Future Greenhill Road | +917 | +921
Stream No. 13 | Approximately 1.0 mile downstream of Wagner Road | +857 | +856 | City of Waterloo.
| Approximately 364 feet upstream of Airline Highway | +864 | +863
Stream No. 36 | Approximately 1.0 mile downstream of Wagner Road | +864 | +863 | City of Waterloo, Unincorporated Areas of Black Hawk County.
| Approximately 0.4 mile downstream of Dunkerton Road | None | +870
Sunnyside Creek | Approximately 0.3 mile downstream of Martin Road | None | +855 | City of Waterloo.
| Approximately 130 feet upstream of 4th Street | None | +878
Sunnyside Creek Bypass | Approximately 0.6 mile downstream of Marine Avenue | +858 | +861 | City of Waterloo.
| Approximately 450 feet upstream of Marine Avenue | None | +869
Unnamed Tributary to Big Woods Creek | Just downstream of Dunkerton Road | None | +864 | City of Cedar Falls.
| Approximately 408 feet west of Interstate 218 | None | +864
Unnamed Tributary to Big Woods Creek | Approximately 0.5 mile upstream of Mount Vernon Road | None | +871 | Unincorporated Areas of Black Hawk County.
| Just upstream of Dunkerton Road | None | +871
Unnamed Tributary to Cedar River | Approximately 182 feet downstream of Dunkerton Road | +863 | +864 | City of Cedar Falls.
| Just upstream of Lone Tree Road | +863 | +864
Wolf Creek | Approximately 0.6 mile downstream of Bike Path | +814 | +815 | City of La Porte City.
| Approximately 1.3 miles upstream of Main Street | None | +824
Wolf Creek Overflow | Approximately 0.4 mile downstream of 8th Street | +814 | +815 | City of La Porte City, Unincorporated Areas of Black Hawk County.
| Approximately 1.3 miles upstream of Poplar Street | +822 | +823
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Cedar Falls
Maps are available for inspection at 220 Clay Street, Cedar Falls, IA 50613.
City of Dunkerton
Maps are available for inspection at 200 Tower Street, Dunkerton, IA 50626.
City of Evansdale
Maps are available for inspection at 123 North Evans Road, Evansdale, IA 50707.
City of Hudson
Maps are available for inspection at 525 Jefferson Street, Hudson, IA 50643.
City of La Porte City
Maps are available for inspection at 202 Main Street, La Porte City, IA 50651.
City of Waterloo
Maps are available for inspection at 715 Mulberry Street, Waterloo, IA 50703.
Unincorporated Areas of Black Hawk County
Maps are available for inspection at 316 East 5th Street, Suite 203, Waterloo, IA 50703.

Deborah S. Ingram,
Acting Deputy Assistant Administrator for Mitigation, Mitigation Directorate, Department of Homeland Security, Federal Emergency Management Agency.

[FR Doc. E9-27114 Filed 11-9-09; 8:45 am]

BILLING CODE 9110-12-P